DEPARTMENT OF EDUCATION

The International Research and Studies Program

AGENCY: Office of Postsecondary Education, Department of Education.

ACTION: Publication of the year 2004 annual report.

SUMMARY: The Secretary announces the publication of the annual report listing the books and research materials produced with assistance provided under section 605 of the Higher Education Act of 1965, as amended (HEA).

SUPPLEMENTARY INFORMATION: Section 605 of the HEA authorizes the International Research and Studies Program.

Under this program, the Secretary awards grants and contracts for—

(a) Studies and surveys to determine the needs for increased or improved instruction in foreign languages, area studies, or other international fields, including the demand for foreign language, area, and other international specialists in government, education, and the private sector;

(b) Studies and surveys to assess the use of graduates of programs, supported under Title VI of the HEA, by governmental, educational, and private sector organizations and other studies assessing the outcomes and effectiveness of programs so supported;

(c) Evaluation of the extent to which programs assisted under Title VI of the HEA that address national needs would not otherwise be offered;

(d) Comparative studies of the effectiveness of strategies to provide international capabilities at institutions of higher education;

(e) Research on more effective methods of providing instruction and achieving competency in foreign languages, area studies, or other international fields;

(f) The development and publication of specialized materials for use in foreign language, area studies, and other international fields, or for training foreign language, area, and other international specialists;

(g) Studies and surveys of the uses of technology in foreign language, area studies, and international studies programs;

(h) Studies and evaluations of effective practices in the dissemination of international information, materials, research, teaching strategies, and testing techniques throughout the education community, including elementary and secondary schools; and

(i) Research on applying performance tests and standards across all areas of foreign language instruction and classroom use.

2004 Program Activities

In fiscal year 2004, 9 new grants ($1,214,019) and 34 continuation grants ($4,426,881) were awarded under the International Research and Studies Program. These grants are active currently, and will be monitored through progress reports submitted by grantees. Grantees have 90 days after the expiration of the grant to submit the products resulting from their research to the Department of Education for review and acceptance.

Completed Research

A number of completed research projects resulting from grants made during prior fiscal years have been received during the past year. These are listed below.

Title | Author/Location
Interactive Web-based Modules for Turkish Listening Comprehension | Dr. Irene A. Bierman, University of California, UCLA Center for Near Eastern Studies, Box 95140, 10286 Bunche Hall, Los Angeles, CA 90095-1480.
UCLA Language Materials Project: Evaluating National Needs and Resources for Modern Less Commonly Taught Languages | Dr. Thomas J. Hinnebusch, University of California, (UCLA), ISOP—Box 951406, 1401 Ueberroth Bldg., Los Angeles, CA 90095-1406.
Foreign Language Articulation from Secondary Schools to Postsecondary Institutions | Drs. David K. Herzberger, Barbara Lindsey, and Timothy G. Reagan, University of Connecticut, Department of Modern Languages, U1057—337, Storrs, CT 06269-1133.
Aswaat Arabiyya Arabic Web-based Listening Materials Project | Dr. Mahmoud Al-Batal, Emory University, Institute for Comparative and International Studies, Atlanta, GA 30322.
Exploring in Chinese: A Second Year Curriculum | Dr. Cynthia Ning, University of Hawaii, Center for Chinese Studies, Sakamaki D-200, 2530 Dole Street, Honolulu, HI 96822.
Southeast Asia Site: Language Learning Research over the World Wide Web | Dr. George M. Henry, Northern Illinois University, Department of Computer Science, DeKalb, IL 60115-2860.
A Tajik Persian Reference Grammar | Dr. John R. Perry, The University of Chicago, Department of Near Eastern, Languages and Civilizations, 1155 East 58th Street, Chicago, IL 60637.
Haitian Creole-English Dictionary | Dr. Albert Valdman, Indiana University Creole Institute, Ballantine Hall 604, 1020 E. Kirkwood Avenue, Bloomington, IN 47405-7103.
Survey of Foreign Language Enrollments in United States Colleges and Universities, Fall 2002 | Dr. Elizabeth B. Welles, Modern Language Association of America (MLA), 26 Broadway, 3rd floor, New York, NY 10004-1789.
Literacy and Early Language Learning: Acquisition and Assessment | Dr. G. Richard Tucker, Carnegie Mellon University, Department of Modern Languages, 5000 Forbes Avenue, Pittsburgh, PA 15213.
Interactive, Listening Modules for Indonesian and Lao | Dr. Ellen Rafferty, University of Wisconsin, Department of Languages and Cultures of Asia, 1220 Linden Drive, Madison, WI 53706.

To obtain a copy of a completed study, contact the author at the given address.

FOR FURTHER INFORMATION CONTACT: For a copy of the 2004 annual report and further information regarding the International Research and Studies Program, contact Mr. Ed McDermott, Program Officer, International Education Programs Service, U.S. Department of Education, 1990 K Street, NW., suite 6000, Washington, DC 20006-8521. Telephone: (202) 502-7636 or via e-mail at: Ed.McDermott@ed.gov.

If you use a telecommunications device for the deaf (TDD), you may call the Federal Relay Service (FRS) at 1-800-877-8339.

Individuals with disabilities may obtain this document in an alternative format (e.g. Braille, large print, audiotape, or computer diskette) on request to the program contact person listed in this section.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1125.

Dated: July 12, 2005.
Sally L. Stroup,
Assistant Secretary for Postsecondary Education.

[FR Doc. 05-13996 Filed 7-14-05; 8:45 am]

BILLING CODE 4000-01-P